FEDERAL COMMUNICATIONS COMMISSION

47 CFR Part 64

[WC Docket Nos. 12-375, 23-62; DA 23-656; FR ID 161579]

Wireline Competition Bureau and the Consumer and Governmental Affairs Bureau Seek Comment on Revisions to Providers' Annual Reporting and Certification Requirements

AGENCY: Federal Communications Commission.

ACTION: Proposed rule; solicitation of comments.

SUMMARY: In this document, the Wireline Competition Bureau (WCB) and the Consumer and Governmental Affairs Bureau (CGB) (collectively, the Bureaus) of the Federal Communications Commission (FCC or the Commission) seek comment on proposed revisions to the instructions and templates for the Annual Reports and Annual Certifications submitted by certain providers of incarcerated people's communications services (IPCS).

DATES: Comments are due September 8, 2023; and reply comments are due September 25, 2023.

ADDRESSES: You may submit comments, identified by WC Docket Nos. 23-62, 12-375, by any of the following methods:

• Electronic Filers: Comments may be filed electronically using the internet by accessing the Electronic Comment Filing System (ECFS): https://www.fcc.gov/ecfs/.

• Paper Filers: Parties who choose to file by paper must file an original and one copy of each filing. Filings can be sent by commercial overnight courier, or by first-class or overnight U.S. Postal Service mail. Currently, the Commission does not accept any hand or messenger delivered filings as a temporary measure taken to help protect the health and safety of individuals, and to mitigate the transmission of COVID-19. All filings must be addressed to the Commission's Secretary, Office of the Secretary, Federal Communications Commission.

The Commission adopted a new Protective Order in this proceeding which incorporates all materials previously designated by the parties as confidential. Filings that contain confidential information should be appropriately redacted and filed pursuant to the procedure described in that Order.

People with Disabilities: To request materials in accessible formats for people with disabilities (Braille, large print, electronic files, audio format), send an email to fcc504@fcc.gov, or call the Consumer and Governmental Affairs Bureau at (202) 418-0530 (voice) or (202) 418-0432 (TTY).

FOR FURTHER INFORMATION CONTACT: Amy Goodman, Pricing Policy Division, Wireline Competition Bureau, at (202) 418-1549 or via email at Amy.Goodman@fcc.gov or Michael Scott, Consumer and Governmental Affairs Bureau, at (202) 418-1264 or via email at Michael.Scott@fcc.gov.

SUPPLEMENTARY INFORMATION: This is a summary of the FCC's Public Notice, DA 23-656, released August 3, 2023. The full text of this document is available at the following internet address: https://www.fcc.gov/document/2023-incarcerated-peoples-communications-services-annual-reports-pn. The full text of the draft instructions, templates, and certification form discussed in the document are available at the following internet address: https://www.fcc.gov/proposed-2023-ipcs-annual-reports.

Synopsis

1. By this document, the Wireline Competition Bureau (WCB) and the Consumer and Governmental Affairs Bureau (collectively, the Bureaus) seek comment on proposed revisions to the instructions and templates for the Annual Reports and Annual Certifications that the Commission requires certain providers of incarcerated people's communications services (IPCS) to submit pursuant to the Commission's regulations in 47 CFR part 64. IPCS providers that are classified as inmate calling services (ICS) providers under the Commission's rules are required to make these filings to enable the Commission to monitor and track trends in the IPCS marketplace, increase provider transparency, and ensure compliance with the Commission's rules. In issuing this document, the Bureaus propose changes to reflect expanded reporting requirements regarding access to IPCS by persons with communication disabilities, including Telecommunications Relay Service (TRS) access, and the addition of video IPCS data necessary to help implement the Martha Wright-Reed Just and Reasonable Communications Act of 2022, Public Law 117-338, 136 Stat. 6156 (Martha Wright-Reed Act or Act).

2. In 2015, pursuant to delegated authority, WCB created standardized reporting templates (FCC Form 2301(a)) for the Annual Report and a related certification of accuracy (FCC Form 2301(b)), as well as instructions to guide providers through the reporting process. WCB amended the instructions, reporting templates, and certification form in 2020 in order to improve the type and quality of the information collected. In 2022, WCB again amended the instructions, reporting templates, and certification form to reflect significant reforms to the ICS rules adopted in the 2021 ICS Order, Rates for Interstate Inmate Calling Services, final rule, 86 FR 40682, July 28, 2021 (2021 ICS Order) including lower interim rate caps for interstate ICS calls, new interim rate caps for international ICS calls, and a rate cap structure that requires ICS providers to differentiate between legally mandated and contractually required site commissions.

3. Subsequent developments now require additional changes to the instructions, reporting templates, and certification form. In the 2022 ICS Order, Rates for Interstate Inmate Calling Services, final rule, 87 FR 75496, December 9, 2022 (2022 ICS Order), the Commission adopted requirements to improve access to communications services for incarcerated people with communication disabilities and expanded the scope of the Annual Reports to reflect those new requirements. Specifically, the Commission required ICS providers to list, at a minimum, for each facility served, the types of TRS that can be accessed from the facility and the number of completed calls and complaints for TTY-to-TTY calls, American Sign Language (ASL) point-to-point video calls, and each type of TRS for which access is provided. The Commission also eliminated the safe harbor, adopted in 2015, that had exempted providers from any TRS-related reporting requirements if they either (1) operated in a facility that allowed the offering of additional forms of TRS beyond those mandated by the Commission or (2) had not received any complaints related to TRS calls. The Commission found that the safe harbor was no longer appropriate given the expanded reporting requirement for additional forms of TRS, and the importance of transparency regarding the state of accessible communications in incarceration settings. The Commission delegated authority to the Bureaus to implement the expanded reporting obligations and to develop a reporting form that will most efficiently and effectively elicit the required information.

4. On January 5, 2023, the President signed into law the Martha Wright-Reed Act, which expanded the Commission's statutory authority over communications between incarcerated people and the non-incarcerated, including “any audio or video communications service used by inmates . . . regardless of technology used.” The new Act also amends section 2(b) of the Communications Act of 1934, as amended (the Communications Act), to make clear that the Commission's authority extends to intrastate as well as interstate and international communications services used by incarcerated people.

5. The Act directs the Commission to “promulgate any regulations necessary to implement” the Act, including its mandate that the Commission establish a “compensation plan” ensuring that all rates and charges for IPCS “are just and reasonable,” not earlier than 18 months and not later than 24 months after the Act's January 5, 2023 enactment date. The Act also requires the Commission to consider, as part of its implementation, the costs of “necessary” safety and security measures, as well as “differences in costs” based on facility size, or “other characteristics.” It also allows the Commission to “use industry-wide average costs of telephone service and advanced communications services and the average costs of service of a communications service provider” in determining just and reasonable rates.

6. Pursuant to the directive that the Commission implement the new Act and establish just and reasonable rates for IPCS services, the Commission released the 2023 IPCS Notice, Incarcerated People's Communications Services; Implementation of the Martha Wright-Reed Act; Rates for Interstate Inmate Calling Services, Notice of Proposed Rulemaking, 88 FR 20804, April 7, 2023 (2023 IPCS Notice), seeking comment on how to interpret the Act's language to ensure that the Commission implements the statute in a manner that fulfills Congress's intent. Because the Commission is now required or allowed to consider certain types of costs, the Act contemplates that it would undertake an additional data collection. To ensure that it has the data necessary to meet its substantive and procedural responsibilities under the Act, the Commission adopted the 2023 IPCS Order, Incarcerated People's Communications Services; Implementation of the Martha Wright-Reed Act; Rates for Interstate Inmate Calling Services, Delegations of Authority; Reaffirmation and Modification, 88 FR 19001, March 30, 2023 (2023 IPCS Order), delegating authority to WCB and the Office of Economics and Analytics (OEA) to modify the template and instructions for the most recent data collection to the extent appropriate to timely collect such information to cover the additional services and providers now subject to the Commission's authority. On July 26, 2023, WCB and OEA released an Order adopting instructions, a reporting template, and a certification form to implement the 2023 Mandatory Data Collection. 2023 Mandatory Data Collection for Incarcerated People's Communications Services, final order, 88 FR 51240, August 3, 2023.

7. In the 2023 IPCS Order, the Commission also reaffirmed and updated its prior delegation of authority to the Bureaus to revise the instructions and reporting templates for the Annual Reports. Specifically, the Commission delegated to the Bureaus authority to modify, supplement, and update the instructions and templates for the Annual Reports, as appropriate to supplement the information the Commission will receive in response to the 2023 Mandatory Data Collection.

8. In the next sections, the Bureaus seek comment on their proposed revisions to the Annual Report instructions, templates, and certification form, which are necessary to reflect the revised disability access rules adopted in the 2022 ICS Order and to help implement the Martha Wright-Reed Act to ensure just and reasonable rates for consumers and fair compensation for providers.

I. Overall Structure of the Annual Reporting and Certification Requirements

9. Pursuant to their delegated authority, the Bureaus propose to revise the Annual Report instructions, templates, and certification form to be consistent with the Commission's 2022 amendments to the annual reports rule and to include the additional services now subject to the Commission's authority under the Martha Wright-Reed Act. The Bureaus also propose minor improvements based on their experience reviewing prior Annual Reports, which has persuaded us that revised instructions would help providers better understand the requirements, making the submitted reports more useful to the Commission and consumers. As a general matter, the Bureaus propose to maintain the existing Excel-format template and Word-format template for the Annual Reports to better separate individual data items from narrative responses and seek comment on this proposal. The Bureaus also seek comment on these proposed revisions, generally, and on the specific structure, content, and format of the proposed templates and instructions attached hereto. The Bureaus likewise propose minor revisions to the certification form. Are there other general changes or additions the Bureaus should make to gather better or more accurate data or to make the instructions clearer? Is there additional information that the Bureaus should require providers to submit to enable the Commission to better monitor compliance and industry trends, or increase transparency to the public? Conversely, are there any proposed instructions, inquiries, or data fields that should be removed because they are unnecessary to ensure that providers report uniform and accurate data and other information?

10. As has been the case with prior Annual Reports, the reporting period is the calendar year immediately preceding the year during which the Annual Report is due. Thus, the reporting period for the next Annual Reports due on April 1, 2024 will be January 1, 2023 through December 31, 2023.

A. General Proposals

11. The Bureaus seek comment on whether the proposed instructions provide sufficient guidance to ensure that providers use uniform methodologies and report the required information in a consistent manner. Are there any additional changes that would help clarify the instructions, including the definitions, and increase uniformity across providers' responses? The Bureaus seek comment on all aspects of the proposed instructions, including any proposed revisions not explicitly addressed in this document.

12. General Categories of Information Requested. The proposed instructions, like those for prior reports, require providers to submit certain types of information related to their operations, IPCS rates, ancillary service charges, site commissions, and disability access. As a result of the Martha Wright-Reed Act, the proposed instructions would require providers to submit intrastate, interstate, and international information for both audio IPCS and video IPCS. Do the proposed instructions describe these categories of data in sufficient detail? Is there additional information that the Bureaus should require providers to submit in any of these categories to enable the Commission to better monitor compliance and industry trends, or increase transparency to the public? Are there any additional changes the Bureaus should make to the proposed instructions and templates to make them easier for providers to understand? The Bureaus seek comment generally on the benefits and burdens of their proposals, and whether additional changes to proposed or existing reporting categories are warranted.

B. Specific Instructions

13. Definitions. The proposed instructions contain new and revised definitions reflecting the Commission's expanded authority over IPCS. The Bureaus seek comment on these definitions. Are they sufficiently clear? If not, how should they be modified? Are there any undefined terms the Bureaus should define? Are there any terms that should be added to the proposed instructions that would help ensure that the Commission receives all relevant data? If so, what are they and how should they be defined? Should any proposed definitions be removed?

14. Facility and Contract Information. The proposed instructions include a reference to a new Excel template that moves detailed contract and facility information already collected on multiple worksheets throughout the Excel template to a single worksheet. Collecting this granular information on a single worksheet is intended to help ensure consistent facility and contract-level reporting, and eliminate the need to repeatedly enter such detailed information on other worksheets throughout the Excel template. This change is intended to reduce the amount of duplicative information required throughout the report and consequently reduce the burden on providers. The Bureaus seek comment on this proposal.

15. Audio and Video IPCS Rates. The proposed instructions and templates continue to require providers to submit intrastate, interstate, and international IPCS rates for audio services across a number of categories, including: (i) highest 15-minute rate; (ii) highest year-end 15-minute rate; and (iii) average per minute rate. For interstate and international rates, the Bureaus require providers to identify all rates charged in excess of the applicable rate caps. For international rates, the Bureaus clarify that reported termination charges should reflect the amount billed by the provider to the consumer for termination to each international destination. The Bureaus seek comment on whether these instructions are sufficiently clear.

16. To assist the Commission in determining just and reasonable rates for video IPCS, consistent with the Martha Wright-Reed Act, the Bureaus propose adopting a similar reporting approach for video IPCS. The Bureaus propose adding new worksheets that collect the same rate information for video IPCS as that collected for audio IPCS. The Bureaus do not request information on video IPCS rates that exceed a cap, since there is no rate cap for these services at this time. Is this proposed approach the best way to collect information on video IPCS rates? Are there additional rate categories for video IPCS that the Bureaus should consider? Conversely, are there categories for audio IPCS that should not be included for video IPCS? For example, the proposed worksheets for international video IPCS exclude charges to terminate communications to foreign countries because while these charges apply to audio services, they may not apply to video services. Do parties agree with this adjustment?

17. Because providers are already familiar with these reporting categories for audio IPCS, the Bureaus expect that using the same rate reporting approach for video IPCS will help minimize the burdens associated with reporting this additional information regarding their video services. The Bureaus seek comment on this assessment. Are there other changes the Bureaus should make to the proposed rate reporting structure that would minimize the burden on providers, without sacrificing any necessary information or transparency? The Bureaus also propose new questions seeking certain narrative information about the reported rates for video IPCS and seek comment on these proposed revisions.

18. The proposed worksheets for video IPCS rate information ask providers to submit information for 15-minute intervals. The Bureaus propose using a 15-minute interval because this is the rate interval used for collecting data on audio IPCS and using the same interval should allow for more meaningful rate comparisons. In addition, audio call lengths are often limited to around 15 minutes. Do parties agree with use of this session interval to evaluate video IPCS rates? If not, what interval should the Bureaus use instead? The proposed Excel template also seeks rate information for both domestic and international video calls. The Bureaus seek comment on the extent to which domestic video IPCS rates differ from international video IPCS rates. Do the Bureaus need separate worksheets for domestic video IPCS rates and international video IPCS rates? If the Bureaus decide to use separate worksheets and some providers have the same rates for domestic and international video IPCS, the Bureaus propose allowing providers that charge the same rates to opt out of filing a separate worksheet for international video IPCS. The Bureaus seek comment on this proposed approach.

19. Finally, the Word template contains questions seeking narrative information about provider operations, facilities, and services, including new questions regarding video IPCS. The Bureaus seek comment on these new questions. Is there additional information the Commission should seek that would help increase transparency and compliance without imposing unwarranted burdens on providers?

20. Ancillary Service Charges. The current instructions require providers to report a variety of information about any ancillary service charges they have assessed, and require a narrative explanation concerning any methodologies used to allocate these charges among facilities that are covered by a single contract, where applicable. The Bureaus propose adding a new worksheet that collects the same ancillary service charge information for video IPCS as that collected for audio IPCS. Do the Bureaus need separate worksheets for audio and video ancillary service charges or are these charges typically the same? If the Bureaus decide to use separate worksheets, the Bureaus propose allowing providers that charge identical ancillary service charges for audio and video IPCS to opt out of filing a separate worksheet for video services. The Bureaus seek comment on this approach. Is there any additional information the Bureaus should seek regarding ancillary service charges for audio or video IPCS?

21. Site Commissions. The current instructions require providers to report their average total monthly site commission payments on a facility-by-facility basis and to separate those payments between legally mandated and contractually prescribed site commission payments, consistent with the Commission's rules. The existing instructions also require providers to subdivide both types of payments between monetary and in-kind payments and, within those subdivisions, to report the portions of the payments that were either fixed or variable. The Bureaus propose adding a new worksheet that collects the same site commission payment information for video IPCS as that collected for audio IPCS. The Bureaus seek comment on this approach or whether a different approach should be considered. Is there any additional information the Bureaus should seek related to site commission payments made in connection with audio IPCS or video IPCS?

22. To the extent providers pay site commissions for both audio IPCS and video IPCS on a per-provider, per-facility, or per-contract basis, and those site commissions are fixed, the Bureaus propose requiring providers to allocate such site commission payments between audio IPCS and video IPCS based on their best estimate of the percentage of the total amount of their fixed site commissions attributable to each type of IPCS. The Bureaus also propose to direct providers to explain, document, and justify, in the Word template, any alternative methodology used to allocate fixed site commission payments between audio IPCS and video IPCS. Do commenters agree with this approach? Why or why not? Should the Bureaus require a different allocation methodology to help ensure more consistent reporting of fixed site commission payments that apply to multiple services? If so, what methodology should the Bureaus require and why?

23. Disability Access and Related Considerations. The proposed instructions modify providers' reporting obligations regarding the provision of TTY-based TRS and TTY-to-TTY calling for incarcerated people with hearing and speech disabilities, including any ancillary service charges that providers have assessed for or in connection with TTY-based calls. Providers would no longer be required to report the number of dropped calls for TTY-based TRS or TTY-to-TTY calls, but would still be required to report the number of calls and number of complaints related to TTY-based TRS and TTY-to-TTY calls. The Bureaus also propose updates to the instructions and the Excel template to reflect the 2022 reforms to the Commission's rules. Under the proposed changes to the “Disability Access” worksheet of the Excel template, providers would report, on a facility-by-facility basis, for each of the six kinds of TRS authorized by the Commission, (1) whether the service was available for use at the facility during the reporting period, (2) the number of calls made using the service, and (3) the number of complaints regarding the service. The same information would be collected for point-to-point video service and for TTY-to-TTY calling. The Bureaus seek comment on whether these proposed changes capture all of the information now required by the revised rules. If not, what additional changes should the Bureaus make?

24. Miscellaneous. The proposed Excel template includes minor changes designed to help reduce burdens and minimize provider error when completing the worksheets. For instance, the proposed template includes “drop-down” menus for data entry when there are only a few answer options. It also includes new cell formatting that restricts the data that can be entered (e.g., numbers vs. text). For the worksheets that include rates paid for IPCS calls to international destinations, the Bureaus propose to require providers to enter their international destinations only once for each worksheet, instead of repeating this information multiple times on each worksheet. The Bureaus seek comment on these minor modifications. The Bureaus also seek comment on their proposed minor updates to the certification form (e.g., inserting the word “Authorized” before “Officer”). Finally, the Bureaus ask for suggestions on additional modifications to the instructions, Excel and Word templates, and certification form that would make them clearer and easier to use.

II. Procedural Matters

25. Ex Parte Presentations. This proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda, or other filings in the proceeding, the presenter may provide citations to such data or arguments in the prior comments, memoranda, or other filings (specifying the relevant page and/or paragraph numbers where such data or arguments can be found) in lieu of summarizing them in the memorandum. Documents shown or given to Commission staff during ex parte meetings are deemed to be written ex parte presentations and must be filed consistent with section 1.1206(b) of the Commission's rules. Participants in this proceeding should familiarize themselves with the Commission's ex parte rules.

26. Regulatory Flexibility Act. As required by the Regulatory Flexibility Act, the Commission has prepared a Supplemental Initial Regulatory Flexibility Analysis (Supplemental IRFA) of the possible significant economic impact on small entities by the policies and rules proposed in the document. The Supplemental IRFA supplements the Commission's Regulatory Flexibility Analyses included in both the 2022 ICS Order, and in the 2023 IPCS Order and serves to further the process of implementing the revised disability access rules requirements adopted in the 2022 ICS Order and in the Martha Wright-Reed Act. The Supplemental IRFA is set forth in Appendix B. The Commission requests written public comments on the Supplemental IRFA. Comments must be identified as responses to the Supplemental IRFA and must be filed by the deadlines for comments provided in this document. The Commission will send a copy of this document, including the Supplemental IRFA, to the Chief Counsel for Advocacy of the Small Business Administration. In addition, summaries of this document and the Supplemental IRFA will be published in the Federal Register.

27. Initial Paperwork Reduction Act Analysis. The document, and the attached instructions and templates, contain new or modified information collection requirements subject to the Paperwork Reduction Act of 1995 (PRA), Public Law 104-13. It will be submitted to the OMB for review under section 3507(d) of the PRA. OMB, the general public, and other federal agencies are invited to comment on the new or modified information collection requirements contained in this proceeding. In addition, the Bureaus note that pursuant to the Small Business Paperwork Relief Act of 2002, Public Law 107-198; see 44 U.S.C. 3506(4), the Bureaus seek comment on how the Commission will further reduce the information collection burden for small business concerns with fewer than 25 employees.

Supplemental Initial Regulatory Flexibility Analysis

1. As required by the Regulatory Flexibility Act of 1980, as amended (RFA), the Wireline Competition Bureau (WCB) and the Consumer and Governmental Affairs Bureau (CGB) (collectively, the Bureaus) have prepared this Supplemental Initial Regulatory Flexibility Analysis (Supplemental IRFA) of the possible significant economic impact on small entities by the policies and rules proposed in the document to supplement the Commission's Regulatory Flexibility Analyses contained in the Rates for Interstate Inmate Calling Services, Order and Notice of Proposed Rulemaking, and in the Incarcerated People's Communications Services; Implementation of the Martha Wright-Reed Act; Rates for Interstate Inmate Calling Services, Notice of Proposed Rulemaking and Order. The Bureaus request written public comment on this Supplemental IRFA. Comments must be identified as responses to the Supplemental IRFA and must be filed by the deadlines for comments provided on the first page of the document.

A. Need for, and Objectives of, the Proposed Rules

2. In the document, the Bureaus seek comment regarding proposed revisions to the instructions, templates, and certification form for the Annual Reports submitted by providers of incarcerated people's communications services (IPCS). In issuing the document, the Bureaus act pursuant to the Commission's delegation of authority to the Bureaus to modify, supplement, and update the Annual Report instructions, templates, and certification form, as appropriate, to reflect revised rules adopted in the 2022 ICS Order and to provide additional information the Commission will need to implement the Martha Wright-Reed Just and Reasonable Communications Act of 2022 (Martha Wright-Reed Act or Act).

3. In the 2022 ICS Order, the Commission adopted requirements to improve access to communications services for incarcerated people with communication disabilities and expanded the scope of the Annual Reports to reflect these changes. Under the proposed, expanded reporting requirements, IPCS providers would be required to list, at a minimum, for each facility served, the types of TRS that can be accessed from the facility and the number of completed calls and complaints for TTY-to-TTY calls, American Sign Language (ASL) point-to-point video calls, and each type of TRS for which access is provided. The Commission also eliminated the safe harbor adopted in 2015 concerning the reporting requirement for TTY-based TRS calls. Additionally, the Commission delegated authority to the Bureaus to implement the expanded reporting obligations contained in the 2022 ICS Order and to develop a reporting form that will most efficiently and effectively elicit the required information.

4. On January 5, 2023, the President signed the Martha Wright-Reed Act into law, thereby expanding the Commission's statutory authority over communications between incarcerated people and the non-incarcerated to include “any audio or video communications service used by inmates . . . regardless of technology used.” The new Act also amends section 2(b) of the Communications Act of 1934, as amended (the Communications Act), to make clear that the Commission's authority extends to intrastate as well as interstate and international communications services used by incarcerated people. Further, the Martha Wright-Reed Act also directs the Commission to “promulgate any regulations necessary to implement” the Act, including its mandate that the Commission establish a “compensation plan” ensuring that all rates and charges for IPCS “are just and reasonable,” not earlier than 18 months and not later than 24 months after the Act's January 5, 2023 enactment.

5. In accordance with the Martha Wright-Reed Act's directive, the Commission released the 2023 IPCS Notice, which sought comment on how to best interpret the Act's language in order to ensure the Commission implemented the statute in a manner that fulfills Congress's intent. In the 2023 IPCS Order, the Commission reaffirmed and updated its prior delegation of authority to the Bureaus to revise the instructions and reporting template for the Annual Reports. Specifically, the Commission delegated authority to the Bureaus to modify, supplement, and update those instructions and templates as appropriate to supplement information WCB will be receiving in response to the 2023 Mandatory Data Collection.

6. Pursuant to their delegated authority, the Bureaus have proposed revisions to the instructions, templates, and certification form for the Annual Reports and are issuing the document to seek comment on all aspects of these proposed changes.

B. Legal Basis

7. The proposed action is authorized pursuant to sections 1, 2, 4(i)-(j), 5(c), 201(b), 218, 220, 225, 255, 276, 403, and 716 of the Communications Act of 1934, as amended, 47 U.S.C. 151, 152, 154(i)-(j), 155(c), 201(b), 218, 220, 225, 255, 276, 403, and 617, and the Martha Wright-Reed Act, Public Law 117-338, 136 Stat. 6156 (2022).

C. Description and Estimate of the Number of Small Entities to Which the Proposed Rules Would Apply

8. The RFA directs agencies to provide a description of, and where feasible, an estimate of the number of small entities that may be affected by the proposed Annual Reports data collection. The RFA generally defines the term “small entity” as having the same meaning as the terms “small business,” “small organization,” and “small governmental jurisdiction.” In addition, the term “small business” has the same meaning as the term “small-business concern” under the Small Business Act. noted above,

9. As noted above, Regulatory Flexibility Analyses were incorporated in the 2022 ICS Order and the 2023 IPCS Notice. In those analyses, the Commission described in detail the small entities that might be affected. In this Supplemental IRFA, the Bureaus hereby incorporate by reference the descriptions and estimates of the number of small entities from the previous Regulatory Flexibility Analyses in the 2022 ICS Order and 2023 IPCS Notice.

D. Description of Projected Reporting, Recordkeeping, and Other Compliance Requirements for Small Entities

10. The document seeks comment on the specifics of the proposed revisions to the instructions, templates, and certification form to ensure the Commission receives the data it needs for the Annual Reports. The proposed data collection would require certain providers that are classified as inmate calling services providers under the Commission's rules to submit, among other things, data and other information on providers' operations, IPCS rates, ancillary services, site commissions, and disability access. The proposed data collection may subject small and other providers to modified or new reporting or other compliance obligations. In addition, the Bureaus recognize that their actions in this proceeding may affect the reporting, recordkeeping, and other compliance requirements for several groups of small entities. At this time, the Bureaus do not have sufficient information to determine whether the proposed revisions to the Annual Reports data collection will require small entities to hire attorneys, engineers, or other professionals to comply with the new rules. The Bureaus, however, anticipate the information they receive in the comments will help the Commission identify and evaluate relevant compliance matters for small entities, including compliance costs and other burdens that may result from the proposals and inquiries the Bureaus make in the document.

E. Steps Taken To Minimize the Significant Economic Impact on Small Entities and Significant Alternatives Considered

11. The RFA requires an agency to describe any significant alternatives that it has considered in reaching its proposed approach, which may include the following four alternatives (among others): “(1) the establishment of differing compliance or reporting requirements or timetables that take into account the resources available to small entities; (2) the clarification, consolidation, or simplification of compliance and reporting requirements under the rules for such small entities; (3) the use of performance rather than design standards; and (4) an exemption from coverage of the rule, or any part thereof, for such small entities.” The Bureaus will consider these factors after reviewing any substantive comment the Bureaus have received from the public and potentially affected small entities.

12. In the document, the Bureaus have taken steps to minimize the economic impact on small entities and consider alternatives through its proposals that include considering different ways to revise the Annual Reports instructions, templates, and certification form without causing significant economic impact to small entities. For example, the Bureaus propose reporting and certification requirements that are similar to those used in prior Annual Reports data collections. In addition, the standardized templates and instructions simplify compliance with, and reduce the burden of, the information requirements related to submission of the Annual Reports. Further, the Bureaus have taken steps to ensure the instructions, annual reporting templates, and certification form are competitively neutral and are not unduly burdensome for all providers. Finally, the document proposes to allow providers that charge the same rates for domestic and international video IPCS to opt out of filing a separate spreadsheet for international video IPCS, thus reducing the regulatory burden to providers. The Bureaus will also consider any significant economic impact to small entities that may be raised in comments filed in response to the document and Supplemental IRFA.

F. Federal Rules That May Duplicate, Overlap, or Conflict With the Proposed Rules

13. None.

Federal Communications Commission.
Lynne Engledow
Deputy Chief, Pricing and Policy Division, Wireline Competition Bureau.

[FR Doc. 2023-17076 Filed 8-8-23; 8:45 am]

BILLING CODE 6712-01-P